DEPARTMENT OF THE INTERIOR

Fish and Wildlife Service

50 CFR Part 17

Endangered and Threatened Wildlife and Plants; 90-Day Finding on a Petition To List Kenk's Amphipod, Virginia Well Amphipod, and the Copepod Acanthocyclops columbiensis as Endangered

AGENCY: Fish and Wildlife Service, Interior.

ACTION: Notice of 90-day petition finding.

SUMMARY: We, the U.S. Fish and Wildlife Service (Service), announce a 90-day finding on a petition to list the Kenk's amphipod (Stygobromus kenki), the Virginia well amphipod (Stygobromus phreaticus), and the copepod Acanthocyclops columbiensis as endangered under the Endangered Species Act of 1973, as amended. We find the petition does not provide substantial scientific or commercial information indicating that listing of these three crustaceans may be warranted. Therefore, we will not initiate a further status review in response to this petition. We ask the public to submit to us any new information that becomes available concerning the status of these species, or threats to them or their habitat, at any time. This information will help us monitor and encourage the conservation of these species.

DATES: The finding announced in this document was made on September 11, 2007.

ADDRESSES: The supporting file for this finding is available for public inspection, by appointment, during normal business hours at the Chesapeake Bay Field Office, U.S. Fish and Wildlife Service, 177 Admiral Cochrane Drive, Annapolis, MD 21401. New information, materials, comments, or questions concerning this species may be submitted to us at any time at the above address.

FOR FURTHER INFORMATION CONTACT: John Wolflin, Field Supervisor, Chesapeake Bay Field Office (see ADDRESSES) (telephone 410-573-4574; facsimile 410-269-0832). People who use a telecommunications device for the deaf (TDD) may call the Federal Information Relay Service (FIRS) at 800-877-8339.

SUPPLEMENTARY INFORMATION:

Background

Section 4(b)(3)(A) of the Endangered Species Act, as amended (Act) (16 U.S.C. 1531 et seq.), requires that the Service make a finding on whether a petition to list, delist, or reclassify a species presents substantial scientific or commercial information indicating that the petitioned action may be warranted. We base this finding on information provided in the petition, supporting information submitted with the petition (and determined to be reliable after review), and information available in our files or otherwise available to us at the time we make the determination. To the maximum extent practicable, we are to make this finding within 90 days of our receipt of the petition and promptly publish our notice of the finding in the Federal Register.

Our standard for substantial scientific or commercial information within the Code of Federal Regulations (CFR) with regard to a 90-day petition finding is “that amount of information that would lead a reasonable person to believe that the measure proposed in the petition may be warranted” (50 CFR 424.14(b)). If we find that substantial scientific or commercial information was presented, we are required to promptly commence a status review of the species.

In making this finding, we relied on information provided by Dr. Richard Mitchell and Mr. Rob Gordon (herein referred to as “the petitioners”) in the initial petition and petition supplement that we determined to be reliable after reviewing sources referenced in the petition, and information otherwise available in our files at the time of the petition review. We evaluated this information in accordance with 50 CFR 424.14(b). Our process of making a 90-day finding under section 4(b)(3)(A) of the Act and § 424.14(b) of our regulations is limited to a determination of whether the information in the petition meets the “substantial [scientific or commercial] information” threshold. The substantiality test is applied only to the reliable information supporting the petition.

On March 27, 2001, we received a petition dated March 20, 2001, from Dr. Richard Mitchell to list as endangered: Kenk's amphipod (Stygobromus kenki); Virginia well amphipod (Stygobromus phreaticus); and a copepod with no common name (Acanthocyclops columbiensis), which we refer to by its scientific name in this document. In this document, we will collectively refer to these three crustaceans as the three invertebrates. The Service received a supplement to this petition dated June 26, 2001, from Mr. Rob Gordon of the National Wilderness Institute.

Action on the petition and supplement was precluded by court orders and settlement agreements for other listing actions that required nearly all of our listing funds for fiscal year 2001. However, the Service did evaluate the need for emergency listing based on the information provided in the initial petition and the supplement and determined that the threats described did not constitute immediate threats of a magnitude that would justify emergency listing. The Service sent letters to Dr. Mitchell on April 17 and June 14, 2001, and to Mr. Gordon on August 1, 2001, explaining this determination.

Species Information

Amphipods of the genus Stygobromus occur in groundwater or groundwater-related habitats (for example, caves, seeps, small springs, wells, interstices, and rarely deep lakes). They are small crustaceans modified for survival in these subterranean habitats; they are generally eyeless and unpigmented (Holsinger 1978, pp. 1-2). Members of this genus occur only in fresh water and belong to the family Crangonyctidae, the largest family of freshwater amphipods in North America. Both Kenk's amphipod and Virginia well amphipod were described by Dr. John R. Holsinger (Holsinger 1978, pp. 39-42, 98-101) and occur in seeps and springs. The Kenk's amphipod was historically reported (tentative identification) from a well in northern Virginia, and the Virginia well amphipod was reported historically from two wells in northern Virginia. The specific name phreaticus indicates that this species is most likely to be found in deeper groundwater habitats. Both species can be found in dead leaves or fine sediment submerged in the waters of their spring-seep outflows (Holsinger 1978, p. 130). The two sites mentioned in the petitions and the additional four known sites for Kenk's amphipod are seeps in the Rock Creek drainage in Washington, DC, and Montgomery County, MD (Feller 2005, p. 11). The only known extant site for Virginia well amphipod is a seep in a ravine on Fort Belvoir, a U.S. Army installation in Fairfax County, VA.

Acanthocyclops columbiensis is a crustacean of the subclass Copepoda. Copepods are generally microscopic and, as a group, are widely distributed in a variety of freshwater and marine habitats. A. columbiensis was described by Dr. Janet W. Reid (Reid 1990, pp. 175-180). The species has been found in acidic pools below seeps or springs at two locations in Prince Georges County, MD: a spring at Oxon Hill Farm Park and a seep at Fort Stanton Park. Both parks are administered by the National Park Service (NPS). No status survey has been conducted for the species, and it is likely that it will be found at additional locations, as were related species in brackish wetlands (Reid 2001; Palmer 2001).

To our knowledge, the taxonomy of the three invertebrates has never been challenged, indicating that they are valid species.

Threats Analysis

Section 4 of the Act and its implementing regulations (50 CFR Part 424) set forth the procedures for adding species to the Federal Lists of Endangered and Threatened Wildlife and Plants. A species may be determined to be an endangered or threatened species due to one or more of the five factors described in section 4(a)(1) of the Act: (A) Present or threatened destruction, modification, or curtailment of habitat or range; (B) overutilization for commercial, recreational, scientific, or educational purposes; (C) disease or predation; (D) inadequacy of existing regulatory mechanisms; or (E) other natural or manmade factors affecting its continued existence. In making this finding, we evaluated whether threats to the three invertebrates presented in the petition and identified in other information available to us may pose a concern with respect to the species' survival. Our evaluation of these threats is presented below. In the discussion below, we have placed the threats listed in the petition under the most appropriate listing factor.

A. Present or Threatened Destruction, Modification, or Curtailment of the Species' Habitat or Range

General

The petitioners state that rapid commercial and residential development over the last 20 years in the metropolitan Washington, DC, area has destroyed numerous seeps, springs, and bogs associated with the Coastal Plain and Piedmont elements of the Upper Potomac River and its tributaries. Associated with this development are runoff and pollution that further degrade the habitat of these unique endemic invertebrates. The petitioners assert that the groundwater table has lowered drastically and wells, springs, and seeps have dried in the last 100 years. The petitioners claim that, currently, little habitat remains for the three invertebrates except in heavily used parks and on military reservations. The petitioners assert that given their limited distribution and highly restricted habitats, the three invertebrates could be driven to extinction by relatively small human disturbances such as a single construction project.

Kenk's Amphipod

The petition supplement states that S. kenki is currently known from only two sites (East Spring and Sherrill Drive Spring) in Rock Creek Park (administered by NPS), and it indicates that a species existing in a park is not, of itself, adequate protection. The petitioners state that a macroinvertebrate survey of Rock Creek (no citation provided, but identified by the Service as Feller 1997) described both sites as highly threatened and believed the existence of S. kenki is equally as tenuous to S. hayi, a listed species that occurs within the park boundary. The petitioners also state that according to the NPS (no citation provided):

Long-term threats exist within and outside the borders of Rock Creek Park. The East Spring site could be threatened by additional development of the recreation area located up slope. The Sherrill Drive Spring site could be threatened by any changes in open space at Walter Reed Hospital or surrounding homes. An example is the plan Walter Reed Hospital has for building an additional Research facility on its grounds.

The petitioners assert that rebuilding the stormwater infrastructure of the city by the District of Columbia threatens the species (Twomey 2001).

The petitioners state that unusually high flood levels from Rock Creek reach the level of the spring habitat of Kenk's amphipod, and this spring habitat has been flooded with increasing frequency in recent years. They indicate that flood waters may adversely affect spring habitat by washing away leaf litter and fine sediments, which form the microhabitat utilized by S. kenki.

Virginia Well Amphipod

The petitioners state that S. phreaticus is known from only one current location and that until its rediscovery at Fort Belvoir, there was concern that it was extinct (no citation provided). The petitioners cite Terwilliger (1991, p. 185) to support their claim that it is unlikely that the species exists elsewhere. This claim is further supported in the petition by Holsinger (1978) who hypothesizes that the very distinctive morphological structure of the Virginia well amphipod makes it unlikely to be overlooked in other collections.

The petitioners state that there are an increasing number of activities at Fort Belvoir that could affect S. phreaticus. In the Fort, in addition to constant activity such as military exercises and training, there is the prospect of greatly increased building activities, including creation of the Army Museum with its attendant construction activities and increased visitation. The petitioners also state that planning is underway for additional bridges crossing the Potomac River near Washington and conclude that the cumulative result of these ongoing and increasing activities for S. phreaticus will be imminent extinction in the absence of the Act's protection.

Acanthocyclops columbiensis

The petitioners state that A. columbiensis, unless protected, could likewise be extirpated at any moment. They indicate that it is known from only two locations, Fort Stanton and Oxon Hill Parks. They further assert that A. columbiensis' occurrence in a National Park affords it little specific protection. Rob Gordon (author of the petition supplement) has not seen the Fort Stanton site but indicates that at Oxon Hill, where it is found in a small, brick-lined spring, A. columbiensis is vulnerable to extirpation. Gordon cites impacts from humans (such as, litter and discarded harmful substances) and a current major Federal construction project (Wilson Bridge), which includes a 12-lane, two-span drawbridge and expansive network of approaches, as threats to this species. He asserts that the highway project alone could massively alter the hydrologic regime, altering ground water recharge and introducing pollution from the project area.

Evaluation of Information in the Petition

The citations provided in the petition do not support the petitioner's claims for any of the three species. Furthermore, the assertion that the three invertebrates could be driven to extinction by a single construction project is not plausible for Kenk's amphipod, which occurs at six different sites (Feller 2005, p. 11), or for A. columbiensis, which is known from two different sites and may occur in many more areas (Reid 2001). It is more plausible for Virginia well amphipod, which, at present, is only known from a single site on Fort Belvoir. However, the petition provides no information about, nor are we aware of, any projects planned within the recharge area for this species as delineated by the hydrogeologic study funded by Fort Belvoir (MACTEC 2003, p. 19).

Kenk's amphipod is known from six sites, not two as the petitioner asserts. Four of the sites are within Rock Creek Park in the District of Columbia, and two are in Montgomery County, MD: one in a county park and one on private property (Feller 2005, p. 11). The macroinvertebrate study (Feller 1997, pp. 8, 24-25, 37) that was referenced in the petition supplement does support the petitioners' claim that the East Spring and Sherill Drive Spring sites are highly threatened; however, the petition does not refer to any of the other four sites supporting the species. Although the information attributed to NPS regarding the threats to East Spring and Sherrill Drive Spring appears plausible, no specific source is cited by the petitioners, and this information relates to only two of the six known sites. The planned stormwater infrastructure project in the District of Columbia mentioned by the petitioners is unlikely to have an effect on this species, as it only affects a section of the Rock Creek drainage well downstream of all Kenk's amphipod sites (Yeaman 2001). The petitioners provide no citation to support their statement that there is an increasing level and frequency of flooding in Rock Creek and that this increased flooding is affecting Kenk's amphipod.

As stated by the petitioners, Virginia well amphipod is currently known to be extant at only a single location (Chazal and Hobson 2003, p. iii). The petition correctly states that there is an increasing number of activities occurring on Fort Belvoir, but presents no evidence that the referenced activities will affect the recharge area, as delineated by MACTEC (2003, p. 19), for the seep supporting this species. The one activity described in detail in the petition, the construction of the Army Museum, will occur near Route 1, approximately 2 miles (3.2 kilometers) from the seep and its recharge area (Keough 2001), making this activity unlikely to affect this species. Although the petitioners state that planning is underway for additional Potomac River bridges near Washington, DC, they provide no supporting information for this claim, and the Service is not aware of any planning currently underway (Zepp 2006).

As stated in the petition supplement, Acanthocyclops columbiensis is currently known to be extant at only two locations, Fort Stanton Park and Oxon Hill Farm Park, both in Prince Georges County, MD. The petitioners provided information concerning threats at the Oxon Hill site only; no information is provided for the Fort Stanton Park site. Their evidence concerning the threat of pollution of the Oxon Hill spring from public littering is speculative and not supported by any independent sources. The potential for impacts to this copepod from upgrades to the Washington (DC) Beltway and the construction of a new access road to Oxon Hill Farm Park (which are part of the Wilson Bridge Project) appears plausible, given the potential impact area for the project shown in the Environmental Impact Statement for the Wilson Bridge (Federal Highway Administration 2000, Figure 3-13). However, construction of these features is now complete, and we are aware of no evidence that spring flows have been affected.

Based on the information in the petition and information readily available to us, we conclude that present or threatened destruction, modification, or curtailment of habitats or ranges has not affected the status of the three invertebrates to the extent that listing under the Act as a threatened or endangered species may be warranted.

B. Overutilization for Commercial, Recreational, Scientific, or Educational Purposes

The petitioners assert that even moderate collection of the three species for scientific or educational purposes would pose a threat to these species due to their rarity and limited occurrence in small locales.

Evaluation of Information in the Petition

The petitioners provide no documentation that collecting for scientific or educational purposes is a threat, nor are we aware of any such information. Collections involved very low numbers of the three invertebrates, and effects on their populations are unlikely. Therefore, we find that the petition does not contain substantial scientific or commercial information concerning collecting for scientific or educational purposes to indicate that listing of the three invertebrates may be warranted.

C. Disease and Predation

The petitioners speculate that it is reasonable to assume that the three invertebrates could possibly be prey for large aquatic insects and their predacious larvae.

Evaluation of Information in the Petition

The petitioners provide no documentation that such predators are present in the spring-seep habitats of the three invertebrates or that their predation constitutes a threat. Therefore, we find that the petition does not present substantial scientific or commercial information concerning that disease or predation to indicate that listing of the three invertebrates may be warranted.

D. Inadequacy of Existing Regulatory Mechanisms

The petitioners indicate that Kenk's amphipod receives some protection from NPS, which administers Rock Creek Park, but that such protection was not considered adequate for the federally listed Hay's Spring amphipod (Stygobromus hayi), which also occurs there. In support of the latter statement, the petitioners cite the rule listing the Hay's Spring amphipod (47 FR 5425, February 5, 1982).

The petitioners also assert that manmade or small natural events could destroy the only known habitat for Virginia well amphipod at Fort Belvoir and the Fort Stanton and Oxon Hill Farm habitats for A. columbiensis.

Evaluation of Information in the Petition

We also note that Hay's Spring amphipod was not known to occur on NPS lands (its only occurrence was on the adjacent National Zoological Park), so the protections (or lack thereof) that now apply to Rock Creek Park were not a consideration in the listing decision (47 FR 5425, February 5, 1982).

Therefore, we find that the petition does not present substantial scientific or commercial information concerning the inadequacy of existing regulatory mechanisms to indicate that listing of the three invertebrates may be warranted.

E. Other Natural or Manmade Factors Affecting Its Continued Existence

The petitioners indicate that “any activities affecting the Upper Potomac and its tributaries, especially the ground water level and its characteristics could be detrimental to the survival of these three invertebrates.” The petitioners also assert that manmade or small natural events could destroy the only known habitat for the Virginia well amphipod at Fort Belvoir and Fort Stanton and Oxon Hill Farm habitats for A. columbiensis

Evaluation of Information in the Petition

Activities in the Upper Potomac and its tributaries have previously been covered under Factor A. Except for the proposed Army Museum, discussed under Factor A, the petitioners have provided no documentation of specific threats at Fort Belvoir. Specific manmade or natural events potentially affecting A. columbiensis were discussed under Factors A and D.

No additional information or documentation is provided on this point by the petitioners. Therefore, we find that the petition does not present substantial scientific or commercial information concerning other natural or manmade factors, to indicate that listing of the three invertebrates may be warranted.

Significant Portion of the Range

Under section 4(b)(1) of the Act, we are required to make a finding as to whether the petition presents substantial information “that the petitioned action may be warranted” (emphasis added). The petition asserts that the three invertebrates (Kenk's amphipod, Virginia well amphipod, and Acanthocyclops columbiensis) require listing throughout their current, respective ranges; the petitioned action was to list each of the invertebrates throughout all of its range. As discussed above, we have determined that the petition did not present substantial information that the petitioned action may be warranted. Although we have no obligation under section 4(b)(1) to address the separate question of whether any of the three invertebrates is threatened or endangered in a significant portion of its range, we note that nothing in the petition or our files lead us to the conclusion that we should at this time, undertake a candidate assessment of any of the three invertebrates to determine whether it is threatened or endangered in a significant portion of its range. If the Service obtains sufficient information in the future that suggests that any of the three invertebrates may warrant listing due to threats in all or a significant portion of its range, we will initiate a candidate assessment, subject to availability of resources, and if appropriate, add the species to the candidate list or propose its listing where threatened or endangered.

Finding

We reviewed the petition, the petition supplement, and supporting information provided with these documents and evaluated that information in relation to other pertinent literature and information available in our files at the time of petition review. After this review and evaluation, we find the petition does not present substantial scientific or commercial information to demonstrate that listing of Kenk's amphipod, Virginia well amphipod, or the copepod Acanthocyclops columbiensis may be warranted at this time, nor do we have other information available to us that indicates that a listing proposal may be warranted. We encourage interested parties to continue to gather data that will assist with the conservation of these species. Information regarding the three invertebrates may be submitted to the Field Supervisor, Chesapeake Bay Field Office (see ADDRESSES), at any time.

References Cited

A complete list of all references cited herein is available upon request from the Chesapeake Bay Field Office (see ADDRESSES).

Author

The primary author of this document is the Chesapeake Bay Field Office, Annapolis, MD.

Authority

The authority for this action is section 4 of the Endangered Species Act of 1973, as amended (16 U.S.C. 1531 et seq.).

Dated: August 31, 2007.
Kenneth Stansell,
Acting Director, U.S. Fish and Wildlife Service.

[FR Doc. E7-17716 Filed 9-10-07; 8:45 am]

BILLING CODE 4310-55-P